DEPARTMENT OF COMMERCE

International Trade Administration

[A-570-855]

Non-Frozen Apple Juice Concentrate from the People's Republic of China: Initiation of Antidumping New Shipper Review

AGENCY: Import Administration, International Trade Administration, Department of Commerce.

ACTION: Notice of Initiation of Antidumping New Shipper Review.

SUMMARY: The Department of Commerce has received a request to conduct a new shipper review of the antidumping duty order on non-frozen apple juice concentrate from the People's Republic of China. In accordance with section 751(a)(2)(B) of the Tariff Act of 1930, as amended, and 19 CFR 351.214, we are initiating this new shipper review.

EFFECTIVE DATE: July 24, 2002.

FOR FURTHER INFORMATION CONTACT: Craig Matney, Audrey Twyman or Stephen Cho, Import Administration, International Trade Administration, U.S. Department of Commerce, 14th Street and Constitution Avenue, NW, Washington, DC 20230; telephone (202) 482-1778, (202) 482-3534, and (202) 482-3798 respectively.

SUPPLEMENTARY INFORMATION:

Applicable Statute and Regulations

Unless otherwise indicated, all citations to the statute are references to the provisions of the Tariff Act of 1930, as amended by the Uruguay Round Agreements Act (“URAA”), effective January 1, 1995 (“the Act”). The Department of Commerce (“the Department”) is conducting this new shipper review in accordance with section 751(a)(2)(B) of the Act. In addition, all references to the Department's regulations are to 19 CFR Part 351 (2002).

Background

On June 25, 2002, the Department received a request from Gansu Tongda Fruit Juice and Beverage Co., Ltd. (“Gansu Tongda”), pursuant to section 751(a)(2)(B) of the Act, and in accordance with 19 CFR 351.214(b), to conduct a new shipper review of the antidumping duty order on non-frozen apple juice concentrate (“NFAJC”) from the People's Republic of China (“PRC”). This order has a June anniversary month.

Initiation of Review

Pursuant to 19 CFR 351.214(b), Gansu Tongda certified in its request that it did not export the subject merchandise to the United States during the period of investigation (“POI”) (October 1, 1998 through March 31, 1999), that it has never been affiliated with any exporter or producer who exported the subject merchandise to the United States during the POI, and that its export activities are not controlled by the central government of the PRC. Gansu Tongda submitted documentation establishing: (i) the date on which its NFAJC was first shipped to the USA; (ii) the volume of that shipment; and (iii) the date of the first sale to an unaffiliated customer in the United States.

In accordance with section 751(a)(2)(B) of the Act and 19 CFR 351.214, we are initiating a new shipper review of the antidumping duty order on NFAJC from the PRC. In accordance with 19 CFR 351.214(h)(i), we intend to issue the preliminary results of this review not later than 180 days from the date of publication of this notice. All provisions of 19 CFR 351.214 will apply to Gansu Tongda throughout the duration of this new shipper review. Pursuant to 19 CFR 351.214(g)(1)(i)(A), the standard period of review in a new shipper review initiated in the month immediately following the anniversary month will be the twelve-month period immediately preceding the anniversary month.

Antidumping Duty Proceeding | Period to be Reviewed
People's Republic of China: Non-Frozen Apple Juice Concentrate, A-570-855: Gansu Tongda Fruit Juice and Beverage Co., Ltd. | 06/01/01 through 05/31/02

Concurrent with publication of this notice, and in accordance with 19 CFR 351.214(e), we will instruct the U.S. Customs Service to allow, at the option of the importer, the posting of a bond or security in lieu of a cash deposit for each entry of the merchandise exported by the company listed above, until the completion of the review.

Interested parties must submit applications for disclosure under administrative protective orders in accordance with 19 CFR 351.305 and 351.306.

This initiation notice is in accordance with section 751(a) of the Act (19 U.S.C. 1675(a)) and 19 CFR 351.214.

Dated: July 11, 2002.
Richard W. Moreland,
Deputy Assistant Secretary for Import Administration.

[FR Doc. 02-18729 Filed 7-23-02; 8:45 am]

BILLING CODE 3510-DS-S